DEPARTMENT OF THE INTERIOR

U.S. Geological Survey

[GX14LR000F60100]

Agency Information Collection Activities: Request for Comments

AGENCY: U.S. Geological Survey (USGS), Interior.

ACTION: Notice of an extension of a currently approved information collection (1028-0070).

SUMMARY: We (the U.S. Geological Survey) will ask the Office of Management and Budget (OMB) to approve the information collection (IC) described below. This collection consists of one form, `9-4117-MA, Consolidated Consumers' Report'. As required by the Paperwork Reduction Act (PRA) of 1995, and as part of our continuing efforts to reduce paperwork and respondent burden, we invite the general public and other Federal agencies to take this opportunity to comment on this IC. This collection is scheduled to expire on April 30, 2014.

DATES: To ensure that your comments are considered, we must receive them on or before February 24, 2014.

ADDRESSES: Please submit a copy of your comments to the Information Collection Clearance Officer, U.S. Geological Survey, 807 National Center, 12201 Sunrise Valley Drive, Reston, VA 20192 (mail); 703-648-7195 (fax); or dgovoni@usgs.gov (email). Please reference `Information Collection 1028-0070, Consolidated Consumers' Report' in all correspondence.

FOR FURTHER INFORMATION CONTACT: Michael J. Magyar at 703-648-4910 (telephone); mmagyar@usgs.gov (email); or by mail at U.S. Geological Survey, 988 National Center, 12201 Sunrise Valley Drive, Reston, VA 20192.

SUPPLEMENTARY INFORMATION:

I. Abstract

Respondents to this form supply the USGS with domestic consumption data for 12 metals and ferroalloys, some of which are considered strategic and critical to assist in determining stockpile goals. These data and derived information will be published as chapters in Minerals Yearbooks, monthly Mineral Industry Surveys, annual Mineral Commodity Summaries, and special publications, for use by Government agencies, industry, education programs, and the general public.

II. Data

OMB Control Number: 1028-0070.

Form Number: 9-4117-MA.

Title: Consolidated Consumers' Report.

Type of Request: Extension of a currently approved collection.

Affected Public: Business or Other-for-Profit Institutions: U.S. nonfuel minerals consumers of ferrous and related metals.

Respondent Obligation: None. Participation is voluntary.

Frequency of Collection: Monthly and Annually.

Estimated Number of Annual Responses: 1,904.

Annual Burden Hours: 1,428 hours, based on an estimated average of 45 minutes per response.

Estimated Reporting and Recordkeeping “Non-Hour Cost” Burden: There are no “non-hour cost” burdens associated with this collection of information.

Public Disclosure Statement: The PRA (44 U.S.C. 3501, et seq.) provides that an agency may not conduct or sponsor a collection of information unless it displays a currently valid OMB control number and current expiration date.

III. Request for Comments

We are soliciting comments as to: (a) Whether the proposed collection of information is necessary for the agency to perform its duties, including whether the information is useful; (b) the accuracy of the agency's estimate of the burden time to the proposed collection of information; (c) how to enhance the quality, usefulness, and clarity of the information to be collected; and (d) how to minimize the burden on the respondents, including the use of automated collection techniques or other forms of information technology.

Please note that the comments submitted in response to this notice are a matter of public record. Before including your street address, phone number, email address, or other personal identifying information in your comment, you should be aware that your entire comment, including your personal identifying information, may be made publicly available at any time. While you can ask us in your comment to withhold your personal identifying information from public view, we cannot guarantee that we will be able to do so.

Dated: December 6, 2013.
W. David Menzie,
Acting Director, National Minerals Information Center, U.S. Geological Survey.

[FR Doc. 2013-30566 Filed 12-23-13; 8:45 am]

BILLING CODE 4311-AM-P